DEPARTMENT OF ENERGY

Federal Energy Regulatory Commission

[Docket No. EF02-4021-000]

Southwestern Power Administration; Notice of Filing

September 26, 2002.

Take notice that the Secretary, U.S. Department of Energy, on September 20, 2002, submitted to the Federal Energy Regulatory Commission (FERC or Commission) for confirmation and approval on a final basis, pursuant to the authority vested in the FERC by Delegation Order No. 00-037.00, December 6, 2001, an annual power rate of $2,013,024 for the sale of power and energy by the Southwestern Power Administration (Southwestern) from the Sam Rayburn Dam Project (Rayburn) to Sam Rayburn Dam Electric Cooperative, Inc. (SRDEC). The rate was confirmed and approved on an interim basis by the Secretary in Rate Order No. SWPA-49 for the period October 1, 2002, through September 30, 2006, and has been submitted to FERC for confirmation and approval on a final basis for the same period. The annual rate of $2,013,024 is based on the 2002 Revised Power Repayment Study for Rayburn and represents an annual decrease in revenue of $64,608, or 3.1 percent, the lowest possible rate required to meet cost recovery criteria.

This rate supersedes the annual power rate of $2,077,632, which FERC approved on a final basis October 22, 2001, under Docket No. EF01-4021-000 for the period October 1, 2001, through September 30, 2005.

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings. Comment Date: October 21, 2002.

Linwood A. Watson, Jr.,
Deputy Secretary.

[FR Doc. 02-25012 Filed 10-1-02; 8:45 am]

BILLING CODE 6717-01-P